DEPARTMENT OF JUSTICE

Parole Commission

Sunshine Act Meeting

TIME AND DATE: 11:00 a.m., Tuesday, January 28, 2014.

PLACE: U.S. Parole Commission, 90 K Street NE., 3rd Floor, Washington, DC.

STATUS: Closed.

MATTERS TO BE CONSIDERED: Hearing Examiner Appointment.

CONTACT PERSON FOR MORE INFORMATION: Patricia W. Moore, Staff Assistant to the Chairman, U.S. Parole Commission, 90 K Street NE., 3rd Floor, Washington, DC 20530, (202) 346-7001.

Dated: January 23, 2014.
J. Patricia W. Smoot,
Acting General Counsel, U.S. Parole Commission.

[FR Doc. 2014-01614 Filed 1-23-14; 4:15 pm]

BILLING CODE 4410-31-P